DEPARTMENT OF LABOR

Employment and Training Administration

[TA-W-60,150]

Celestica Corporation, Including On-Site Workers of Securitas Security, Including On-Site Leased Workers of Adecco Westminster, Colorado; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 13, 2006, applicable to workers of Celestica, Westminster, Colorado. The notice was published in the Federal Register on October 25, 2006 (71 FR 62489).

At the request of a company official, the Department reviewed the certification for workers of the subject firm. The workers were engaged in warehousing and distribution operations.

New information shows that workers of Securitas Security were employed on-site at the Westminster, Colorado location of Celestica.

Based on these findings, the Department is amending this certification to include workers of Securitas Security working on-site at Celestica, Westminster, Colorado.

The intent of the Department's certification is to include all workers employed at Celestica, Westminster, Colorado who were adversely affected by a shift in production to Mexico, Canada and Israel.

The amended notice applicable to TA-W-60,150 is hereby issued as follows:

All workers of Celestica Corporation, including on-site workers of Securitas Security and on-site leased workers of Adecco, Westminster, Colorado, who became totally or partially separated from employment on or after September 25, 2005, through October 13, 2008, are eligible to apply for adjustment assistance under Section 223 of the Trade Act of 1974, and are also eligible to apply for alternative trade adjustment assistance under Section 246 of the Trade Act of 1974.

Signed at Washington, DC, this 25th day of October 2006.
Richard Church,
Certifying Officer, Division of Trade Adjustment Assistance.

[FR Doc. E6-18358 Filed 10-31-06; 8:45 am]

BILLING CODE 4510-30-P